DEPARTMENT OF TRANSPORTATION

Research and Special Programs Administration

Report on Research Activities; Request for Comments

AGENCY: Research and Special Programs Administration, DOT.

ACTION: Notice and Request for Comments.

SUMMARY: The Norman Y. Mineta Research and Special Programs Improvement Act of 2004 (Public Law 108-426) will disestablish the Department of Transportation's Research and Special Programs Administration (RSPA). In its place, two new Federal agencies will be established—the Research and Innovative Technology Administration (RITA) and the Pipeline and Hazardous Materials Safety Administration (PHMSA). These new organizations will be effective no later than February 28, 2005.

Section 4(g) of the Act directs the incoming RITA Administrator to prepare a report to Congress, due March 30, 2005, on the research activities and priorities of the Department of Transportation. As a part of the stakeholder review process, the Department of Transportation is soliciting comments from Federal, state, private sector, and not-for-profit institutions on the topics outlined below.

ADDRESSES: Please submit all comments electronically to RitaReport@rspa.dot.gov or fax to (202) 366-3671. The deadline for comments is February 15, 2005.

FOR FURTHER INFORMATION CONTACT: Thomas Marchessault, RSPA, by telephone at (202) 366-4434 or Fax: (202) 366-3671.

SUPPLEMENTARY INFORMATION: RITA is a new Department of Transportation (DOT) organization dedicated to advancing the DOT's priorities for transportation innovation, research, and education. RITA will integrate the existing intermodal research and development functions of the RSPA Office of Innovation, Research, and Education and the Secretary's Office of Intermodalism.

In addition, RITA also will incorporate the Volpe National Transportation Systems Center in Cambridge, Massachusetts; the Transportation Safety Institute in Oklahoma City; and the Bureau of Transportation Statistics in its entirety.

Report to Congress

On November 30, 2004, President Bush signed the Norman Y. Mineta Research and Special Programs Improvement Act (Public Law 108-426). Section 4(g) of the Act directs the RITA Administrator to prepare a report on the research activities of the Department of Transportation, for delivery to the Committee on Transportation and Infrastructure, the Committee on Science of the House of Representatives, and the Committee on Commerce, Science, and Transportation of the Senate. This report is due March 30, 2005, 120 days after enactment.

The report shall include the following information:

• A summary of the mission and strategic goals of the new RITA Administration;

• A prioritized list of the research and development activities that the Department intends to pursue over the next five (5) years;

• A description of the primary purposes for conducting such R&D activities such as reducing traffic congestion, improving mobility, and promoting safety;

• An estimate of the funding levels needed to implement such R&D activities for the current fiscal year; and

• Additional information the RITA Administrator considers appropriate.

In developing the report, the RITA Administrator must also:

• Solicit input from a wide range of stakeholders;

• Take into account how the research and development activities of other Federal, state, private sector, and not-for-profit institutions contribute to the achievement of the desired purposes; and

• Address methods to avoid unnecessary duplication of efforts in achieving such purposes.

As a part of the stakeholder review process, the Department of Transportation is soliciting comments from Federal, state, private sector, and not-for-profit institutions on these topics. The Department is using a variety of venues to solicit comments by stakeholders. This Federal Register Notice is one method for receiving comment. In particular, the Department encourages comments on the following topics:

Identification of Priorities

• How do we establish DOT transportation research priorities in an environment of limited resources?

• How do we balance research on long-term, high-risk and high-impact advances versus research with immediate transportation safety and mobility returns?

Research Duplication

• How do we identify and avoid unnecessary duplication in transportation-related technology research?

• How do we share information and learn about opportunities to benefit from others' research?

The Role of Stakeholders

• What on-going communications methods or processes might be established with stakeholders outside of the DOT to receive their advice and recommendations?

• What information resources can RITA utilize or create to leverage private sector advances into the DOT missions and goals?

We encourage your ideas on these topics, and on other related topics you may identify. The development of RITA, its roles, direction, and responsibilities, will be a methodical process of growth. It may not be possible to incorporate many of the ideas we receive in our Congressional report. However, all ideas and concerns identified will be considered for integration into our planning endeavors.

Issued in Washington, DC on January 14, 2005.
Thomas Marchessault,
Acting Associate Administrator, Office of Innovation, Research and Education, Research and Special Programs Administration.

[FR Doc. 05-1226 Filed 1-25-05; 8:45 am]

BILLING CODE 4910-60-P